DEPARTMENT OF EDUCATION

[Docket No.: ED-2022-SCC-0136]

Agency Information Collection Activities; Submission to the Office of Management and Budget for Review and Approval; Comment Request; Evaluating the Impact of the Professional Learning Community: Emergent Literacy (PLC-EL)

AGENCY: Institute of Education Sciences (IES), Department of Education (ED).

ACTION: Notice.

SUMMARY: In accordance with the Paperwork Reduction Act (PRA) of 1995, the Department is proposing a new information collection request (ICR).

DATES: Interested persons are invited to submit comments on or before March 6, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Janelle Sands, 202-245-6786.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluating the Impact of the Professional Learning Community: Emergent Literacy (PLC-EL).

OMB Control Number: 1850-NEW.

Type of Review: A new ICR.

Respondents/Affected Public: Individuals and households.

Total Estimated Number of Annual Responses: 1,726.

Total Estimated Number of Annual Burden Hours: 3,156.

Abstract: The purpose of this study is to understand the impact of the PLC-EL program on preschool teachers' knowledge, practice, and student achievement in print knowledge, phonological awareness, oral language, and vocabulary. In addition, this study will identify factors that influence program effectiveness and the facilitators and barriers of effective implementation that inform scale-up initiatives across the state. This study will using a randomized controlled trial design to help ensure that—all else equal—this study will yield the strongest, most reliable evidence possible on which to base policy and practice. The study sample will include approximately 100 preschool centers across SC, 2,940 students, 226 preschool teachers, 25 PLC-EL Facilitators, center leaders, and a subset of district and state education leaders.

The study findings will help the Office of Early Learning & Literacy (OELL) at SCDE meet its goals of improving equitable access to high-quality PD for educators and equitable access to high-quality instruction for students by training facilitators to implement the PLC-EL in a large sample of preschool centers in four separate regions of the state. In addition, the study findings will provide the OELL at SCDE with actionable information about facilitators and barriers to implementation that can be used to inform scale-up initiatives across the state.

Dated: January 30, 2023.
Juliana Pearson,
PRA Coordinator, Strategic Collections and Clearance, Governance and Strategy Division, Office of Chief Data Officer, Office of Planning, Evaluation and Policy Development.

[FR Doc. 2023-02196 Filed 2-1-23; 8:45 am]

BILLING CODE 4000-01-P